POSTAL SERVICE

39 CFR Part 111

Post Office Box Refund

AGENCY: Postal Service™.

ACTION: Proposed rule.

SUMMARY: The Postal Service is proposing to amend Mailing Standards of the United States Postal Service, Domestic Mail Manual (DMM®) to clarify the refund policy for customers who qualified for a Group “E” (free) Post Office Box™.

DATES: Submit comments on or before January 12, 2023.

ADDRESSES: Mail or deliver written comments to the Director, Product Classification, U.S. Postal Service, 475 L'Enfant Plaza SW, Room 4446, Washington, DC 20260-5015. If sending comments by email, include the name and address of the commenter and send to PCFederalRegister@usps.gov, with a subject line of “P.O. Box Refunds”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC, 20260. These records are available for review on Monday through Friday, 9 a.m.-4 p.m., by calling 202-268-2906.

FOR FURTHER INFORMATION CONTACT: Phong T. Quang at (202) 268-2857 or Garry Rodriguez at (202) 268-7281.

SUPPLEMENTARY INFORMATION: Currently, the Postal Service has no provision for providing a refund to customers who were eligible for Group E (free) P.O. Box™ service under DMM 508.4.5.2 and paid for P.O. Box service. Informal policies were established to refund customers who paid for P.O. Box service despite their eligibility for Group E P.O. Box service on an ad hoc basis but were inconsistent.

To ensure uniform treatment of customers who were not provided Group E P.O. Box service, the Postal Service is proposing to provide a refund policy if it has been determined that a customer paying for P.O. Box service is entitled to Group E P.O. Box service. A refund of prorated fees may be issued for each full consecutive month preceding the determination, up to a maximum of 24 months. Interest will not be paid on the amount refunded.

The Postal Service is also proposing to make a minor revision to the text in 508.4.5.2c for clarity in the standard.

We believe the proposed revisions will provide customers with a more efficient mailing experience.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Services

* * * * *

508 Recipient Services

* * * * *

4.0 Post Office Box Service

* * * * *

4.5 Fee Group Assignments

* * * * *

4.5.2 Fee Group E—Free P.O. Box Service

Customers may qualify for Group E (free) P.O. Box service at a Post Office if their physical address location meets all of the following criteria:

* * * * *

[Revise the first sentence of item c to read as follows:]

c. USPS does not provide carrier delivery to a mail receptacle at or near a physical address for reasons other than those in 4.5.3b. * * *

* * * * *

4.6 Fee Refund

* * * * *

[Add new 4.6.3 to read as follows:]

4.6.3 Group E P.O. Box Service Refund

If a postmaster determines that a customer paying for P.O. Box service was entitled to Group E (free) P.O. Box service under 4.5.2, a refund of prorated fees may be issued for each full consecutive month preceding the determination, up to a maximum of 24 months. Interest is not paid on the amount refunded.

* * * * *

Ruth B. Stevenson,
Chief Counsel, Ethics and Legal Compliance.

[FR Doc. 2022-26968 Filed 12-12-22; 8:45 am]

BILLING CODE 7710-12-P